DEPARTMENT OF COMMERCE

International Trade Administration

United States-Mexico-Canada Agreement (USMCA), Article 10.12: Binational Panel Review: Notice of Request for Panel Review

AGENCY: United States Section, USMCA Secretariat, International Trade Administration, Department of Commerce.

ACTION: Notice of USMCA Request for Panel Review.

SUMMARY: A Request for Panel Review was filed on behalf of Deacero S.A.P.I. de C.V. and I.N.G.E.T.E.K.N.O.S. Estructurales, S.A. de C.V. with the United States Section of the USMCA Secretariat, pursuant to USMCA Article 10.12. Panel Review was requested of the U.S. Department of Commerce's Final Results in the 2022-2023 Administrative Review of Antidumping Duty Order on Steel Concrete Reinforcing Bar from Mexico. The USMCA Secretariat has assigned case number USA-MEX-2025-10.12-01 to this request. The Request for Panel Review was timely filed on October 2, 2025. Due to a lapse in appropriations for the U.S. federal government, the United States Section of the USMCA Secretariat was closed from October 1, 2025, through November 12, 2025. Thus, the Request for Panel Review was docketed on November 13, 2025, upon the office resuming operations; as such, November 13, 2025, shall be considered the start date for the dispute. The dispute timeline has been determined based on this date.

FOR FURTHER INFORMATION CONTACT: Vidya Desai, United States Secretary, USMCA Secretariat, Room 2061, 1401 Constitution Avenue NW, Washington, DC 20230, 202-482-5438.

SUPPLEMENTARY INFORMATION: The final determination was published in the Federal Register on September 4, 2025 (90 FR 42740).

Article 10.12 of Chapter 10 of USMCA provides a dispute settlement mechanism involving trade remedy determinations issued by the Government of the United States, the Government of Canada, and the Government of Mexico. Following a Request for Panel Review, a Binational Panel is composed to review the trade remedy determination being challenged and issue a binding Panel Decision.

There are established USMCA Rules of Procedure for Article 10.12 (Binational Panel Reviews), which were adopted by the three governments for panels requested pursuant to Article 10.12(2) of USMCA which requires Requests for Panel Review to be published in accordance with Rule 40. For the complete Rules, please see https://can-mex-usa-sec.org/secretariat/agreement-accord-acuerdo/usmca-aceum-tmec/rules-regles-reglas/article-article-articulo_10_12.aspx?lang=eng.

The Rules provide that:

(a) A Party or interested person may challenge the final determination in whole or in part by filing a Complaint in accordance with Rule 44 no later than 30 days after the filing of the first Request for Panel Review (due to the adjusted start date, the deadline for filing a Complaint is December 15, 2025);

(b) A Party, an investigating authority or other interested person who does not file a Complaint but who intends to participate in the panel review shall file a Notice of Appearance in accordance with Rule 45 no later than 45 days after the filing of the first Request for Panel Review (due to the adjusted start date, the deadline for filing a Notice of Appearance is December 29, 2025);

(c) The panel review will be limited to the allegations of error of fact or law, including challenges to the jurisdiction of the investigating authority, that are set out in the Complaints filed in the panel review and to the procedural and substantive defenses raised in the panel review.

Dated: November 17, 2025.
Vidya Desai,
United States Secretary, USMCA Secretariat.

[FR Doc. 2025-20331 Filed 11-18-25; 8:45 am]

BILLING CODE 3510-GT-P